DEPARTMENT OF AGRICULTURE

Animal and Plant Health Inspection Service

7 CFR Part 319

[Docket No. 02-019-3]

Phytosanitary Treatments; Location of Treatment Schedules and Other Requirements; Correction

AGENCY: Animal and Plant Health Inspection Service, USDA.

ACTION: Final rule; correction.

SUMMARY: We are correcting an error in the amendatory instructions in our final rule that removed the Plant Protection and Quarantine Treatment Manual from the list of materials incorporated by reference and added treatment schedules and related requirements from that document to our phytosanitary treatments regulations. The final rule was effective and published in the Federal Register on June 7, 2005 (70 FR 33264-33326, Docket No. 02-019-1).

EFFECTIVE DATE: March 2, 2006.

FOR FURTHER INFORMATION CONTACT: Ms. Meredith C. Jones, Regulatory Coordination Specialist, PPQ, APHIS, 4700 River Road Unit 141, Riverdale, MD 20737-1236; (301) 734-7467.

SUPPLEMENTARY INFORMATION: In a final rule effective and published in the Federal Register on June 7, 2005 (70 FR 33264-33326, Docket No. 02-019-1), we amended the plant health regulations by adding to 7 CFR part 305 treatment schedules and related requirements that had appeared in the Plant Protection and Quarantine Treatment Manual and by removing the Plant Protection and Quarantine Treatment Manual from the list of materials incorporated by reference into the regulations.

In the final rule, it was our intention to amend the regulations by, among other things, adding gender-neutral references in the third sentence of § 319.8. However, our amendatory instruction that was intended to accomplish this change was erroneous. This document corrects that error.

List of Subjects in 7 CFR Part 319

Coffee, Cotton, Fruits, Imports, Logs, Nursery stock, Plant diseases and pests, Quarantine, Reporting and recordkeeping requirements, Rice, Vegetables.

Accordingly, 7 CFR part 319 is corrected by making the following correcting amendment:

PART 319—FOREIGN QUARANTINE NOTICES

1. The authority citation for part 319 continues to read as follows:

Authority: 7 U.S.C. 450, 7701-7772, and 7781-7786; 21 U.S.C. 136 and 136a; 7 CFR 2.22, 2.80, and 371.3.

§ 319.8 [Amended]

2. In § 319.8(a), the third sentence is amended by adding the words “or she” immediately after the word “he” both times it occurs.

Done in Washington, DC, this 23rd day of February 2006.
Kevin Shea,
Acting Administrator, Animal and Plant Health Inspection Service.

[FR Doc. 06-1941 Filed 3-1-06; 8:45 am]

BILLING CODE 3410-34-P